DEPARTMENT OF ENERGY

Federal Energy Regulatory Commission

[Docket Nos. EL03-134-000 and EL03-135-000]

Richard Blumenthal, Attorney General of the State of Connecticut, and The Connecticut Department of Public Utility Control v. NRG Power Marketing, Inc., Connecticut Light and Power Company; Notice of Initiation of Proceedings and Refund Effective Dates

June 27, 2003.

Take notice that on June 25, 2003, the Commission issued an order in the above-indicated docket nos. initiating proceedings in Docket Nos. EL03-134-000 and EL03-135-000 under section 206 of the Federal Power Act.

The refund effective date in Docket Nos. EL03-134-000 and EL03-135-000 will be 60 days after publication of this notice in the Federal Register.

Magalie R. Salas,
Secretary.

[FR Doc. 03-16823 Filed 7-2-03; 8:45 am]

BILLING CODE 6717-01-P